DEPARTMENT OF ENERGY

Federal Energy Regulatory Commission

[Docket No. EC02-63-000, et al.]

TECO Power Services Corporation, et al.; Electric Rate and Corporate Regulation Filings

April 22, 2002.

The following filings have been made with the Commission. The filings are listed in ascending order within each docket classification.

1. TECO Power Services Corporation, Mosbacher Power Partners, L.P.

[Docket No. EC02-63-000]

Take notice that on April 15, 2002, TECO Power Services Corporation (TECO Power) and Mosbacher Power Partners, L.P. (MPP) tendered for filing an application requesting all necessary authorizations under Section 203 of the Federal Power Act for the sale by MPP to TECO Power of MPP's interest (indirectly through affiliates) in the Commonwealth Chesapeake Power Station, a 315 MW simple-cycle, oil-fired, combustion turbine electric generating peaking facility in Accomack County, Virginia.

Comment Date: May 6, 2002.

2. PacifiCorp

[Docket No. EC02-64-000]

Take notice that on April 16, 2002, PacifiCorp (PacifiCorp) filed with the Federal Energy Regulatory Commission (Commission) an application pursuant to section 203 of the Federal Power Act and part 33 of the Regulations of the Commission for authorization of a disposition of jurisdictional facilities whereby PacifiCorp will transfer its electric distribution and transmission properties located within the county of Linn, Oregon to Emerald People's Utility District (EPUD). The transfer will be accomplished by payment in cash plus the assumption of liabilities by EPUD according to the Asset Transfer Agreement between PacifiCorp and EPUD.

The transfer shall become effective upon entry of the stipulated judgment filed in the Oregon state court action, Emerald People's Utility District v. PacifiCorp, et al., Linn County Circuit Court Case No. 99-2656. PacifiCorp filed no Section 205 rate proceeding in this application, and states that the transaction will have no impact on competition, rates or regulation.

Applicant requests waiver of any applicable filing requirements under the Commission's Rules and Regulations as may be necessary to approve the transfer. Applicant also has requested Commission approval of the transaction on or before May 31, 2002.

Comment Date: May 7, 2002.

3. Puget Sound Energy, Inc.

[Docket No. EL02-77-000]

Take notice that on April 17, 2002, Puget Sound Energy, Inc. (PSE), tendered for filing a Petition for Declaratory Order Regarding Reclassification of Facilities, pursuant to the Commission's Order in Docket ER02-605, dated February 15, 2002. Puget Sound Energy, Inc. 98 FERC ¶ 61,168. PSE requests an effective date of January 1, 2002 for the above-described reclassification.

Copies of the filing were served on the all persons on the Commission's Service list in ER02-605, PSE's jurisdictional customers, and the Washington State Utilities and Transportation Commission.

Comment Date: May 17, 2002.

4. Big Cajun I Peaking Power LLC

[Docket No. ER02-1571-000]

Take notice that on April 17, 2002, Big Cajun I Peaking Power LLC (Big Cajun I Peaking) filed with the Federal Energy Regulatory Commission (Commission), under section 205 of the Federal Power Act (FPA), an application requesting that the Commission (1) accept for filing its proposed market-based FERC Rate Schedule No. 1; (2) grant blanket authority to make market-based wholesale sales of capacity and energy under the FERC Rate Schedule No. 1; (3) grant authority to sell ancillary services at market-based rates; (4) accept for filing Service Agreement No. 1; and (5) grant such waivers and blanket authorizations as the Commission has granted in the past to other nonfranchised entities with market-based rate authority.

Comment Date: May 8, 2002.

5. Bayou Cove Peaking Power, LLC

[Docket No. ER02-1572-000]

Take notice that on April 17, 2002, Bayou Cove Peaking Power, LLC (Bayou Cove) filed, under section 205 of the Federal Power Act (FPA), an application requesting that the Commission (1) accept for filing its proposed market-based FERC Rate Schedule No. 1; (2) grant blanket authority to make market-based wholesale sales of capacity and energy under the FERC Rate Schedule No. 1; (3) grant authority to sell ancillary services at market-based rates; and (4) grant such waivers and blanket authorizations as the Commission has granted in the past to other nonfranchised entities with market-based rate authority.

Comment Date: May 8, 2002.

6. KeySpan Port Jefferson Energy Center LLC

[Docket No. ER02-1573-000]

Take notice that on April 17, 2002, KeySpan-Port Jefferson Energy Center LLC (Port Jefferson) tendered for filing pursuant to Section 205 of the Federal Power Act its proposed FERC Electric Tariff No. 1.

Port Jefferson seeks authority to sell energy and capacity, as well as ancillary services, at market-based rates, together with certain waivers and preapprovals. Port Jefferson also seeks authority to sell, assign, or transfer transmission rights that it may acquire in the course of its marketing activities.

Port Jefferson requests waiver of the Commission's 60-day notice requirement to allow an effective date of May 7, 2002 for its proposed rate schedule.

Comment Date: May 8, 2002.

7. Southern Company Services, Inc.

[Docket No. ER02-1574-000]

Take notice that on April 17, 2002, Southern Company Services, Inc., as agent for Georgia Power Company (Georgia Power), submitted for filing the First Revised Service Agreement No. 248, Revised and Restated Interconnection Agreement by and between MPC Generating, LLC (MPC Generating) and Georgia Power (the First Revised Service Agreement). The First Revised Service Agreement reflects the assignment of the rights and obligations of Service Agreement No. 248, Revised and Restated Interconnection Agreement by and between Monroe Power Company (Monroe) and Georgia Power dated as of February 29, 2000, to MPC Generating, pursuant to the Assignment and Assumption Agreement among Monroe, MPC Generating, and Georgia Power effective as of February 1, 2002.

Comment Date: May 8, 2002.

8. American Electric Power Service Corporation

[Docket No. ER02-1575-000]

Take notice that on April 17, 2002, American Electric Power Service Corporation submitted for filing an unexecuted Interconnection and Operation Agreement, dated March, 2002, between Appalachian Power Company (APCo) and Allegheny Energy Supply Company, LLC. The agreement is pursuant to the AEP Companies' Open Access Transmission Service Tariff (OATT) that has been designated as the Operating Companies of the American Electric Power System FERC Electric Tariff Second Revised Volume No. 6, effective June 15, 2000.

APCo requests an effective date of June 15, 2002. Copies of APCo's filing have been served upon Allegheny Energy Supply Company, LLC and upon Virginia State Corporation Commission.

Comment Date: May 8, 2002.

9. International Transmission Company

[Docket No. ER02-1576-000]

Take notice that on April 17, 2002, International Transmission Company (ITC) tendered for filing the Generator Interconnection and Operating Agreement between ITC and FirstEnergy Generation Corp. (FirstEnergy) (the Agreement), as a service agreement under ITC's Open Access Transmission Tariff (FERC Electric Tariff, Original Volume No. 1) and is designated as Service Agreement No. 131. The Agreement provides the general terms and conditions for the interconnection and parallel operation of FirstEnergy's electric generating facility located in Sumpter Township, Michigan. The Agreement shall continue from the effective date through the date on which the Facility permanently ceases commercial operations unless terminated earlier as permitted and provided for under the Agreement.

Comment Date: May 8, 2002.

10. New England Power Pool

[Docket No. ER02-1577-000]

Take notice that on April 17, 2002, the New England Power Pool (NEPOOL) Participants Committee submitted the Eighty-Third Agreement Amending New England Power Pool Agreement (the Eighty-Third Agreement), which proposes changes to the Financial Assurance Policy for NEPOOL Members, which is Attachment L to the NEPOOL Tariff, and the Financial Assurance Policy for NEPOOL Non-Participant Transmission Customers, which is Attachment M to the NEPOOL Tariff, each as previously restated in the Eighty-Third Agreement Amending New England Power Pool Agreement, and to the New England Power Pool Billing Policy, which is Attachment N to the NEPOOL Tariff. The Eighty-Third Agreement also proposes minor, clarifying changes to Sections 21.2” and 21.2(d) of the Restated NEPOOL Agreement.

The NEPOOL Participants Committee states that copies of these materials were sent to the NEPOOL Participants, Non-Participant Transmission Customers and the New England state governors and regulatory commissions.

Comment Date: May 8, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Magalie R. Salas,
Secretary.

[FR Doc. 02-10661 Filed 4-29-02; 8:45 am]

BILLING CODE 6717-01-P